DEPARTMENT OF HOUSING AND URBAN DEVELOPMENT

24 CFR Parts 5, 92, and 908

[Docket No. FR-4998-F-04]

RIN 2501-AD16

Refinement of Income and Rent Determination Requirements in Public and Assisted Housing Programs: Delay of Effective Date

AGENCY: Office of the Secretary, HUD.

ACTION: Final rule; Delay of effective date.

SUMMARY: HUD is delaying the effective date of the rule entitled “Refinement of Income and Rent Determination Requirements in Public and Assisted Housing Programs” published in the Federal Register on January 27, 2009. The rule, which was originally scheduled to become effective on March 30, 2009, will become effective on September 30, 2009. Today's action follows publication of HUD's February 11, 2009, Federal Register notice seeking public comment on whether delay in the effective date of the January 27, 2009, final rule, would be beneficial in further consideration of the rule's policies. This action is being taken in accordance with the memorandum of January 20, 2009, from the assistant to the President and Chief of Staff, entitled “Regulatory Review.”

DATES: Effective Date: The effective date of the final rule, which was published on January 27, 2009 (74 FR 4832) is delayed until September 30, 2009.

FOR FURTHER INFORMATION CONTACT: For Office of Public and Indian Housing programs, contact Nicole Faison, Director of the Office of Public Housing Programs, Department of Housing and Urban Development, 451 7th Street, SW., Room 4226, Washington, DC 20410, telephone number 202-708-0744. For Office of Housing Programs, contact Gail Williamson, Director of the Housing Assistance Policy Division, Department of Housing and Urban Development, 451 7th Street, SW., Room 6138, Washington, DC 20410, telephone number 202-402-2473. (These are not toll-free numbers.) Persons with hearing or speech impairments may access these numbers through TTY by calling the toll-free Federal Information Relay Service at 800-877-8339.

SUPPLEMENTARY INFORMATION:

I. Background

On January 27, 2009 (74 FR 4832), HUD published a final rule, entitled “Refinement of Income and Rent Determination Requirements in Public and Assisted Housing Programs.” The January 27, 2009, final rule revises HUD's public and assisted housing program regulations to implement the upfront income verification process for program participants and to require the use of HUD's Enterprise Income Verification (EIV) system by public housing agencies and owners and management agents. The final rule was originally scheduled to become effective on March 30, 2009, but provided multifamily housing owners and management agents with an additional six months (until September 30, 2009) to implement use of the EIV.

On February 11, 2009 (74 FR 6839), HUD published a notice in the Federal Register seeking public comment on whether delay in the effective date of the January 27, 2009, final rule, would be beneficial to further consider the rule's policies before they become effective. The notice was issued in accordance with the memorandum of January 20, 2009, from the assistant to the President and Chief of Staff, entitled “Regulatory Review” and subsequently published in the Federal Register on January 26, 2009 (74 FR 4435). The notice explained that HUD was considering a temporary 60-day delay in the effective date to allow HUD officials the opportunity for further review and consideration of new regulations, consistent with the Chief of Staff memorandum of January 20, 2009.

In addition to seeking public comment, in the February 11, 2009, notice HUD took the opportunity to address questions received subsequent to publication of the January 27, 2009, final rule pertaining to the provisions requiring the use of social security numbers for determining program eligibility. The February 11, 2009, notice clarified that these requirements are not intended to apply to individuals, in mixed families, who do not contend eligible immigration status under HUD's noncitizens regulations, nor do they interfere with existing requirements relative to proration of assistance or screening for such families, or authorize their eviction or denial of admission on the basis of the new requirements pertaining to obtaining social security numbers.

The February 11, 2009, notice solicited comments specifically on a delayed effective date, but also generally on the January 27, 2009 final rule. HUD received approximately 50 comments in response to the February 11, 2009, notice. The majority of comments were supportive of a delayed effective date. The majority of the commenters also raised additional questions and comments about various aspects of the January 27, 2009, final rule.

II. This Final Rule

Through this final rule, HUD delays the effective date of the January 27, 2009, final rule until September 30, 2009. A delay until September 30, 2009 will provide HUD with additional time to review the public comments received in response to the February 11, 2009, notice, respond to those comments in a subsequent publication, and consider whether additional regulations or changes to the regulations in the January 27, 2009, final rule are necessary or appropriate. Since September 30, 2009, is the date in the January 27, 2009, final rule for multifamily housing owners and management agents to implement the use of EIV, the Department has determined not to provide additional delay in implementation in the use of EIV for multifamily housing owners and management agents as provided in the January 27, 2009, final rule. The implementation date for public housing agencies, multifamily housing owners, and management agents will now all be the same as the new effective date, September 30, 2009. Should HUD determine that additional rulemaking is necessary or appropriate, HUD will provide the public with the opportunity to comment on any proposed changes to the regulations in the January 27, 2009, final rule.

Dated: March 24, 2009.
Paula O. Blunt,
General Deputy Assistant Secretary for Public and Indian Housing.

[FR Doc. E9-6942 Filed 3-26-09; 8:45 am]

BILLING CODE 4210-67-P